DEPARTMENT OF ENERGY

Western Area Power Administration

Applications for the Post-2004 Resource Pool Power Allocations, Salt Lake City Area Integrated Projects

AGENCY: Western Area Power Administration, DOE.

ACTION: Notice of extension and modification of application requirements.

SUMMARY: Western Area Power Administration (Western) published a Notice of Allocation Procedures and Call for Applications, Post-2004 Resource Pool—Salt Lake City Area Integrated Projects (SLCA/IP) in the Federal Register on September 8, 1999. This notice extends the filing date for applications for an allocation of SLCA/IP power from the Post-2004 Power Pool by 3 months and waives the requirement for a Letter of Interest from applicants.

DATES: Entities interested in applying for an allocation of Western power must submit applications as described in the September 8, 1999, notice to Western's CRSP Management Center at the address in the ADDRESSES section. Applications must be received by 4 p.m., MDT, on June 8, 2000. Applicants are encouraged to use certified mail to deliver applications. Applications will be accepted via regular mail through the United States Postal Service if postmarked at least 3 days before June 8, 2000, and received no later than June 12, 2000. Western will not consider applications that are not received by the prescribed dates. Western will publish a Notice of Proposed Allocations in the Federal Register after evaluating all applications. Application procedures are provided in the September 8, 1999, notice.

ADDRESS: Applications must be submitted to the CRSP Power Marketing and Contracts Team Lead, CRSP Management Center, P.O. Box 11606, Salt Lake City, UT 84147-0606.

FOR FURTHER INFORMATION CONTACT: Burt Hawkes, CRSP Power Marketing and Contracts Team Lead, telephone (801) 524-3344, e-mail hawkes@wapa.gov; or Lyle Johnson, Public Utilities Specialist, telephone (801) 524-5585, e-mail ljohnson@wapa.gov.

SUPPLEMENTARY INFORMATION:

Authorities

Power resources are marketed pursuant to the Department of Energy Organization Act (42 U.S.C. 7101-7352); the Reclamation Act of June 17, 1902 (ch. 1093, 32 Stat. 388), as amended and supplemented by subsequent enactments, particularly section 9(c) of the Reclamation Project Act of 1939 (43 U.S.C. 485(c); and other acts specifically applicable to the projects involved.

Background

This notice provides an extension to file an application for power from the Post-2004 Resource Pool from March 8, 2000, to June 8, 2000, and waives the requirement for a Letter of Interest from applicants.

The September 8, 1999, (64 FR 48825) notice established a date 6 months after publication or March 8, 2000, for Applicant Profile Data (APD) to be received by the CRSP Management Center. Through the process of contacting potential applicants, it has become apparent that many potential new customers will not be able to meet this deadline. Western has received several requests to extend the time allowed for completion of the APD. A 3-month extension will allow applicants sufficient time to contact serving utilities and collect the information requested in the APD.

Western originally required that a Letter of Interest from applicants be received by Western by October 25, 1999. Western's intent in requiring this Letter of Interest was to provide Western with advance information about the number of applicants, particularly Native American applicants. Western anticipated that receiving this information in advance would allow time to assist these applicants in preparing their APD. A number of Letters of Interest were received prior to the announced deadline. However, several letters were submitted and accepted after the deadline had passed. Since these letters were requested for Western's convenience, the requirement for a Letter of Interest will be waived. Applicants are still encouraged to provide Western a letter indicating that they intend to apply for an allocation and name the points of contact within their organization.

Preference entities who want to apply for a new allocation of power from Western's SLCA/IP must submit formal applications conforming to the procedures described previously. Eligibility criteria, allocation criteria, and procedures for applying for power from the SLCA/IP are provided in the September 8, 1999, notice.

Dated: February 17, 2000.
Michael S. Hacskaylo,
Administrator.

[FR Doc. 00-5019 Filed 3-1-00; 8:45 am]

BILLING CODE 6450-01-P